DEPARTMENT OF ENERGY

Office of Science; Fusion Energy Sciences Advisory Committee

AGENCY: Department of Energy.

ACTION: Notice of open meeting.

SUMMARY: This notice announces a meeting of the Fusion Energy Sciences Advisory Committee. The Federal Advisory Committee Act (Pub. L. 92-463, 86 Stat.770) requires that public notice of these meetings be announced in the Federal Register.

DATES: Tuesday, February 28, 2006, 10 a.m. to 5 p.m. Wednesday, March 1, 2006, 8:30 a.m. to 12 noon.

ADDRESSES: The Gaithersburg Hilton Hotel, 620 Perry Parkway, Gaithersburg, Maryland, 20887, USA.

FOR FURTHER INFORMATION CONTACT: Albert L. Opdenaker, Office of Fusion Energy Sciences; U.S. Department of Energy; 1000 Independence Avenue, SW.; Washington, DC 20585-1290; Telephone: 301-903-4927.

SUPPLEMENTARY INFORMATION: Purpose of the Meeting: The major purpose of the meeting is for the Fusion Energy Sciences Advisory Committee (FESAC) to hear the report of its Committee of Visitors that has dealt with the program's large experimental facilities, diagnostics, and Enabling R&D program, and to prepare a letter transmitting the report and the Committee's recommendations to the Department.

Tentative Agenda: Tuesday, February 28, 2006 (10 a.m.-5 p.m.).

• Office of Science Perspective.

• Office of Fusion Energy Sciences Perspective.

• Presentation by the Committee of Visitors on Large Facilities, Diagnostics and Enabling R&D.

• Public Comments.

Wednesday, March 1, 2006 (9 a.m.-12 Noon).

• Status of ITER Agreement.

• Status of U.S. ITER Project.

• Burning Plasma Program Office Organization.

• Status of the National Ignition Facility Project.

• Prepare letter to DOE transmitting the COV Report.

• Adjourn.

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room; IE-190; Forrestal Building; 1000 Independence Avenue, SW.; Washington, DC, between 9 a.m. and 4 p.m., Monday through Friday, except Federal holidays.

Issued at Washington, DC, on February 6, 2006.
Rachel M. Samuel,
Deputy Advisory Committee Management Officer.

[FR Doc. E6-1970 Filed 2-10-06; 8:45 am]

BILLING CODE 6450-01-P